DEPARTMENT OF THE INTERIOR

National Park Service

[NPS-WASO-NAGPRA-NPS0026509; PPWOCRADN0-PCU00RP14.R50000]

Notice of Inventory Completion: Arizona State Museum, University of Arizona, Tucson, AZ; Correction

AGENCY: National Park Service, Interior.

ACTION: Notice; correction.

SUMMARY: The Arizona State Museum, University of Arizona has corrected an inventory of human remains and associated funerary objects, published in a Notice of Inventory Completion in the Federal Register on September 10, 2014. This notice corrects the number of associated funerary objects. Lineal descendants or representatives of any Indian Tribe or Native Hawaiian organization not identified in this notice that wish to request transfer of control of these human remains and associated funerary objects should submit a written request to the Arizona State Museum, University of Arizona. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Arizona State Museum, University of Arizona at the address in this notice by November 16, 2018.

ADDRESSES: Claire S. Barker, Repatriation Coordinator, P.O. Box 210026, Arizona State Museum, University of Arizona, Tucson, AZ 85721, telephone (520) 626-0320, email csbarker@email.arizona.edu.

SUPPLEMENTARY INFORMATION: Notice is here given in accordance with the Native American Graves Protection and Repatriation Act (NAGPRA), 25 U.S.C. 3003, of the correction of an inventory of human remains and associated funerary objects under the control of the Arizona State Museum, University of Arizona, Tucson, AZ. The human remains and associated funerary objects were removed from Site AZ AA:12:46(ASM), Pima County, AZ.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the number of associated funerary objects published in a Notice of Inventory Completion in the Federal Register (79 FR 53754-53759, September 10, 2014). The number of associated funerary objects increased due to a search through uncatalogued object collections. Transfer of control of the items in this correction notice has not occurred.

Correction

In the Federal Register (79 FR 53755, September 10, 2014), column 2, paragraph 2, sentence 7 is corrected by substituting the following sentence:

The 4,189 associated funerary objects are 38 animal bones, one lot of beads (unknown material), four bone artifacts, three bone awls, 40 bone awl fragments, two bone whistles, 35 lots of botanical material, 24 ceramic bowls, 36 ceramic bowl fragments, two ceramic disks, 13 ceramic jars, 34 ceramic jar fragments, one ceramic ladle, 16 ceramic pitchers, two ceramic scoops, 3,488 ceramic sherds, one ceramic sherd artifact, one ceramic vessel, eight lots of charcoal, 88 chipped stones, one piece of chipped stone debris, three chipped stone flakes, one chipped stone knife, one chipped stone scraper, one chipped stone tool, four clay fragments, one crystal, one daub fragment, three ground stones, three ground stone axes, two hand stones, two metallic cylinders, 13 mineral fragments, one lot of organic material, two pebbles, two lots of plant fiber matting, four pollen samples, three shells, 19 lots of shell and stone beads, 18 shell artifacts, 23 shell artifact fragments, 49 lots of shell beads, four shell bracelets, nine shell bracelet fragments, 33 lots of shell fragments, one shell fossil, five shell pendants, one shell pendant fragment, two soil samples, seven stones, two stone balls, three lots of stone beads, three stone cylinders, one stone disk, one stone pendant, 83 stone projectile points, two stone projectile point fragments, four lots of textile cord, seven lots of textile fragments, one turquoise tessera, and 26 wood fragments.

In the Federal Register (79 FR 53759, September 10, 2014), column 1, paragraph 1, sentence 1 is corrected by substituting the following sentence:

Pursuant to 25 U.S.C. 3001(3)(A), the 9,676 objects described in this notice are reasonably believed to have been placed with or near individual human remains at the time of death or later as part of the death rite or ceremony.

Additional Requestors and Disposition

Lineal descendants or representatives of any Indian Tribe or Native Hawaiian organization not identified in this notice that wish to request transfer of control of these human remains and associated funerary objects should submit a written request with information in support of the request to Claire S. Barker, Repatriation Coordinator, P.O. Box 210026, Arizona State Museum, University of Arizona, Tucson, AZ 85721, telephone (520) 626-0320, email csbarker@email.arizona.edu, by November 16, 2018. After that date, if no additional requestors have come forward, transfer of control of the human remains and associated funerary objects to the Ak-Chin Indian Community (previously listed as the Ak Chin Indian Community of the Maricopa (Ak Chin) Indian Reservation, Arizona); Gila River Indian Community of the Gila River Indian Reservation, Arizona; Hopi Tribe of Arizona; Salt River Pima-Maricopa Indian Community of the Salt River Reservation, Arizona; Tohono O'odham Nation of Arizona; and the Zuni Tribe of the Zuni Reservation, New Mexico may proceed.

The Arizona State Museum, University of Arizona is responsible for notifying the Ak-Chin Indian Community (previously listed as the Ak Chin Indian Community of the Maricopa (Ak Chin) Indian Reservation, Arizona); Gila River Indian Community of the Gila River Indian Reservation, Arizona; Hopi Tribe of Arizona; Salt River Pima-Maricopa Indian Community of the Salt River Reservation, Arizona; Tohono O'odham Nation of Arizona; and the Zuni Tribe of the Zuni Reservation, New Mexico that this notice has been published.

Dated: September 14, 2018.
Melanie O'Brien,
Manager, National NAGPRA Program.

[FR Doc. 2018-22594 Filed 10-16-18; 8:45 am]

BILLING CODE 4312-52-P